DEPARTMENT OF DEFENSE

[DOD-2006-OS-0056]

National Reconnaissance Office; Privacy Act of 1974; System of Records

AGENCY: National Reconnaissance Office.

ACTION: Notice to alter a system of records.

SUMMARY: The National Reconnaissance Office is altering a system of records notice in its existing inventory of record systems subject to the Privacy Act of 1974, (5 U.S.C. 552a), as amended.

DATES: This proposed action will be effective without further notice on May 3, 2006 unless comments are received which result in a contrary determination.

ADDRESSES: Send comments to the FOIA/Privacy Official, National Reconnaissance Office, Information Access and Release, 14675 Lee Road, Chantilly, VA 20151-1715.

FOR FURTHER INFORMATION CONTACT: Contact the FOIA/NRO Privacy Official at (703) 227-9128.

SUPPLEMENTARY INFORMATION: The National Reconnaissance Office systems of records notices subject to the Privacy Act of 1974, (5 U.S.C. 552a), as amended, have been published in the Federal Register and are available from the address above.

The proposed system report, as required by 5 U.S.C. 552a(r) of the Privacy Act of 1974, as amended, was submitted on March 23, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: March 28, 2006.
L. M. Bynum,
OSD Federal Register Liaison Officer, Department of Defense.

QNRO-10

System name:

Inspector General Investigative Records (August 17, 2001, 66 FR 43237).

Changes:

* * * * *

Categories of records in the system:

Delete entry and replace with: “Individual's name, Social Security Number, employee number, company, parent organization, work telephone number, date of birth, home address, reports of investigations, reports of interviews, signed statements, correspondence, government forms, and internal NRO memoranda.”

* * * * *

Retrievability:

Delete entry and replace with: “Name, Social Security Number, and/or case category.”

* * * * *

QNRO-10

System name:

Inspector General Investigative Records.

System location:

Office of the Inspector General, National Reconnaissance Office, 14675 Lee Road, Chantilly, VA 20151-1715.

Categories of individuals covered by the system:

Persons who are interviewed by or provide information to the National Reconnaissance Office (NRO) Office of Inspector General, and persons involved with or who have knowledge about a matter being investigated or reviewed by the Office of the Inspector General. These persons include NRO civilian and military personnel assigned or detailed to the NRO, persons with a contractual relationship with the NRO or who perform work under NRO contracts.

Categories of records in the system:

Individual's name, Social Security Number, employee number, company, parent organization, work telephone number, date of birth, home address, reports of investigations, reports of interviews, signed statements, correspondence, government forms, and internal NRO memoranda.

Authority for maintenance of the system:

National Security Act of 1947, as amended, 50 U.S.C. 401 et seq.; 5 U.S.C. 301, Departmental Regulations; NRO Directive 22-3A; E.O. 12333; E.O. 12958; E.O. 12968; and E.O. 9397 (SSN).

Purpose(s):

Records are used to investigate allegations of misconduct or wrongdoing by NRO personnel related to violations of laws, rules, or regulations or to mismanagement, gross waste of funds, fraud or mismanagement on the part of persons assigned or detailed to the NRO, and to provide information to NRO management regarding personnel matters and for evaluating current and proposed programs, policies and activities, assignments, and requests for awards or promotions. Records are used by the NRO Inspector General and his/her staff, the NRO Director, the Director of the Central Intelligence Agency, and the Secretary of Defense to effect corrective personnel or other administrative action; to provide facts and evidence upon which to base prosecution; to provide information to other investigative elements of the Department of Defense, other Federal, State, or local agencies having jurisdiction over the substance of the allegations or a related investigative interest; to provide information upon which determinations may be made for individuals' suitability for various personnel actions including but not limited to retention, promotion, assignment, retirement in grade or selection for sensitive or critical positions in the Armed Forces or Federal service.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To appropriate officials within the Intelligence Community (Central Intelligence Agency, other Federal departments, agencies, inspectors generals and elements thereof) to the extent that the records concern NRO funds, personnel, property programs, operations, or contracts or when relevant to the official responsibilities of those organizations and entities; regarding personnel matters; and to evaluate current and proposed programs policies and activities, selected assignments and requests for awards or promotions.

To Federal, state, local, foreign or international agencies, or to an individual or organization, when necessary to elicit information relevant to an NRO Inspector General investigation, inquiry, decision or recommendation.

To the Department of Justice or any other agency responsible for representing NRO interests in connection with a judicial, administrative, or other proceeding. To the Department of Justice or other Intelligence Community Inspector General or agency to the extent necessary to obtain information or advice on any matter relevant to an Office of Inspector General investigation;

To the President's Foreign Intelligence Advisory Board, and the Intelligence Oversight Board, and any successor organizations, when requested by those entities, or when the Inspector General determines that disclosure will assist in the performance of their oversight functions; and

The DoD ‘Blanket Routines Uses’ published at the beginning of the NRO compilation of systems of records notices apply to this system.

Polices and practices for storing, retrieving, accessing, retaining, and disposing of records in the system:

Storage:

Paper files and automated information system, maintained in computers and computer output products.

Retrievability:

Name, Social Security Number, and/or case category.

Safeguards:

Records are stored in a secure, gated facility, guard, badge, and password access protected. Access to and use of these records are limited to the Inspector General staff whose official duties require such access.

Retention and disposal:

Records are permanently maintained by NRO.

System manger(s) and address:

Inspector General, National Reconnaissance Office, 14675 Lee Road, Chantilly, VA 20151-1715.

Notification procedure:

Individuals seeking to determine whether this system of records contains information about themselves should address written inquiries to the National Reconnaissance Office, Information Access and Release Center, 14675 Lee Road, Chantilly, VA 20151-1715.

Request should include the individual's full name and any aliases or nicknames, address, Social Security Number, current citizenship status, date and place of birth, and other information identifiable from the record.

In addition, the requester must provide a notarized statement or an unsworn declaration made in accordance with 28 U.S.C. 1746, in the following format:

If executed without the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Record access procedures:

Individuals seeking to access information about themselves contained in this system should address written inquiries to the National Reconnaissance Office, Information Access and Release Center, 14675 Lee Road, Chantilly, VA 20151-1715.

Request should include the individual's full name, and any aliases or nicknames, address, Social Security Number, current citizenship status, date and place of birth, and other information identifiable from the record.

In addition, the requester must provide a notarized statement or an unsworn declaration made in accordance with 28 U.S.C. 1746, in the following format:

If executed without the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The NRO rules for accessing records, for contesting contents and appealing initial agency determinations are published in NRO Directive 110-3A and NRO Instruction 110-5A; 32 CFR part 326; or may be obtained from the Privacy Act Coordinator, National Reconnaissance Office, 14675 Lee Road, Chantilly, VA 20151-1715.

Record source categories:

Information is supplied by the individual, parties, other than the individual, as well as by personal records and documentation; subjects and suspects of NRO investigations; interview of witnesses, victims, and confidential sources. All types of records and information maintained by all levels of government, private industry, and non-profit organizations reviewed during the course of the investigation or furnished the NRO; and any other type of record deemed necessary to complete the NRO investigation.

Exemptions claimed for the system:

Parts of this system may be exempt pursuant to 5 U.S.C. 552a(j)(2) if the information is compiled and maintained by a component of the agency which performs as its principle function any activity pertaining to the enforcement of criminal laws.

Investigatory material compiled for law enforcement purposes, other than material within the scope of subsection (j)(2), may be exempt pursuant to 5 U.S.C. 552a(k)(2). However, if an individual is denied any right, privilege, or benefit for which he would otherwise be entitled by Federal law or for which he would otherwise be eligible, as a result of the maintenance of such information, the individual will be provided access to such information except to the extent that disclosure would revealed the identity of a confidential source.

Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated in accordance with the requirements of 5 U.S.C. 553(b)(1), (2), and (3), (c) and (e) and published in 32 CFR part 326. For additional information contact the system manager.

[FR Doc. 06-3157 Filed 3-31-06; 8:45am]

BILLING CODE 5001-06-M